DEPARTMENT OF TRANSPORTATION

Federal Aviation Administration

14 CFR Part 97

[Docket No. 30992 Amdt. No. 3621]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 15, 2015. The compliance date for each SIAP, associated Takeoff Minimums, and ODP is specified in the amendatory provisions.

The incorporation by reference of certain publications listed in the regulations is approved by the Director of the Federal Register as of January 15, 2015.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFRs and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on December 5, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 8 January 2015

Anchorage, AK, Ted Stevens Anchorage Intl, RNAV (GPS) Y RWY 7R, Amdt 4B

Anchorage, AK, Ted Stevens Anchorage Intl, RNAV (RNP) RWY 33, Orig

Anchorage, AK, Ted Stevens Anchorage Intl, RNAV (RNP) Z RWY 7R, Orig

Gambell, AK, Gambell, GPS RWY 16, Orig, CANCELED

Gambell, AK, Gambell, GPS RWY 34, Orig, CANCELED

Gambell, AK, Gambell, RNAV (GPS) RWY 16, Orig

Gambell, AK, Gambell, RNAV (GPS) RWY 34, Orig

Gambell, AK, Gambell, Takeoff Minimums and Obstacle DP, Amdt 2

Kotzebue, AK, Ralph Wien Memorial, ILS OR LOC/DME RWY 9, Orig

Kotzebue, AK, Ralph Wien Memorial, ILS OR LOC/DME RWY 9, Amdt 2, CANCELED

Kotzebue, AK, Ralph Wien Memorial, RNAV (GPS) RWY 9, Orig

Kotzebue, AK, Ralph Wien Memorial, RNAV (GPS) RWY 9, Amdt 2A, CANCELED

Kotzebue, AK, Ralph Wien Memorial, RNAV (GPS) RWY 27, Orig

Kotzebue, AK, Ralph Wien Memorial, RNAV (GPS) RWY 27, Amdt 1, CANCELED

Kotzebue, AK, Ralph Wien Memorial, Takeoff Minimums and Obstacle DP, Orig

Kotzebue, AK, Ralph Wien Memorial, Takeoff Minimums and Obstacle DP, Amdt 3, CANCELED

Kotzebue, AK, Ralph Wien Memorial, VOR RWY 9, Orig

Kotzebue, AK, Ralph Wien Memorial, VOR RWY 9, Amdt 4, CANCELED

Kotzebue, AK, Ralph Wien Memorial, VOR RWY 27, Orig

Kotzebue, AK, Ralph Wien Memorial, VOR RWY 27, Amdt 4, CANCELED

Kotzebue, AK, Ralph Wien Memorial, VOR/DME RWY 9, Orig

Kotzebue, AK, Ralph Wien Memorial, VOR/DME RWY 9, Amdt 5, CANCELED

Kotzebue, AK, Ralph Wien Memorial, VOR/DME Y RWY 27, Orig

Kotzebue, AK, Ralph Wien Memorial, VOR/DME Y RWY 27, Amdt 1, CANCELED

Kotzebue, AK, Ralph Wien Memorial, VOR/DME Z RWY 27, Orig

Kotzebue, AK, Ralph Wien Memorial, VOR/DME Z RWY 27, Amdt 1, CANCELED

Hope, AR, Hope Muni, RNAV (GPS) RWY 4, Orig

Hope, AR, Hope Muni, RNAV (GPS) RWY 22, Orig

Sacramento, CA, Sacramento Intl, ILS OR LOC RWY 16L, Amdt 3

Sacramento, CA, Sacramento Intl, ILS OR LOC RWY 16R, ILS RWY 16R (SA CAT I), ILS RWY 16R (CAT II), ILS RWY 16R (CAT III), Amdt 16

Sacramento, CA, Sacramento Intl, RNAV (GPS) Y RWY 16L, Amdt 2

Sacramento, CA, Sacramento Intl, RNAV (GPS) Y RWY 16R, Amdt 2

Sacramento, CA, Sacramento Intl, Takeoff Minimums and Obstacle DP, Amdt 1

Greeley, CO, Greeley-Weld County, RNAV (GPS) RWY 10, Amdt 1A

Winterset, IA, Winterset Muni, RNAV (GPS) RWY 14, Amdt 1

Winterset, IA, Winterset Muni, RNAV (GPS) RWY 32, Amdt 1

Winterset, IA, Winterset Muni, Takeoff Minimums and Obstacle DP, Amdt 3

Winterset, IA, Winterset Muni, VOR/DME-A, Amdt 3

Liberal, KS, Liberal Mid-America Rgnl, ILS OR LOC RWY 35, Amdt 4A

Liberal, KS, Liberal Mid-America Rgnl, RNAV (GPS) RWY 4, Orig-A

Liberal, KS, Liberal Mid-America Rgnl, RNAV (GPS) RWY 17, Orig-A

Liberal, KS, Liberal Mid-America Rgnl, RNAV (GPS) RWY 22, Amdt 1

Liberal, KS, Liberal Mid-America Rgnl, RNAV (GPS) RWY 35, Orig-A

Memphis, MO, Memphis Memorial, RNAV (GPS) RWY 12, Orig

Memphis, MO, Memphis Memorial, RNAV (GPS) RWY 30, Orig

Memphis, MO, Memphis Memorial, Takeoff Minimums and Obstacle DP, Orig

Columbus/W Point/Starkville, MS, Golden Triangle Rgnl, RNAV (GPS) RWY 18, Amdt 2

Hillsboro, ND, Hillsboro Muni, RNAV (GPS) RWY 16, Amdt 2

Hillsboro, ND, Hillsboro Muni, RNAV (GPS) RWY 34, Amdt 2

Hillsboro, ND, Hillsboro Muni, Takeoff Minimums and Obstacle DP, Amdt 1

Manchester, NH, Manchester, ILS OR LOC RWY 6, Amdt 2

Manchester, NH, Manchester, ILS OR LOC RWY 35, ILS RWY 35 (SA CAT I), ILS RWY 35 (CAT II), ILS RWY 35 (CAT III), Amdt 2

Manchester, NH, Manchester, ILS OR LOC/DME RWY 17, Amdt 2

Manchester, NH, Manchester, RNAV (GPS) Y RWY 17, Amdt 1

Manchester, NH, Manchester, RNAV (GPS) Y RWY 35, Amdt 1

Manchester, NH, Manchester, RNAV (RNP) Z RWY 17, Amdt 1

Manchester, NH, Manchester, RNAV (RNP) Z RWY 35, Orig

Teterboro, NY, Teterboro, RNAV (GPS) X RWY 6, Amdt 2

Albany, NY, Albany Intl, ILS OR LOC RWY 19, Amdt 24

Albany, NY, Albany Intl, RNAV (GPS) Y RWY 19, Amdt 2

Norwalk, OH, Norwalk-Huron County, GPS RWY 28, Orig-A, CANCELED

Norwalk, OH, Norwalk-Huron County, RNAV (GPS) RWY 28, Orig

Norwalk, OH, Norwalk-Huron County, VOR OR GPS-A, Amdt 5B, CANCELED

Bolivar, TN, William L. Whitehurst Field, RNAV (GPS) RWY 1, Amdt 1

Bolivar, TN, William L. Whitehurst Field, RNAV (GPS) RWY 19, Amdt 1

Comanche, TX, Comanche County-City, RNAV (GPS) RWY 17, Amdt 1

Comanche, TX, Comanche County-City, RNAV (GPS) RWY 35, Orig

Charlottesville, VA, Charlottesville-Albemarle, ILS OR LOC RWY 3, Amdt 1

Charlottesville, VA, Charlottesville-Albemarle, RNAV (GPS) RWY 3, Amdt 3

Lynchburg, VA, Lynchburg Rgnl/Preston Glenn Fld, ILS OR LOC RWY 4, Amdt 17

Sutton, WV, Braxton County, RNAV (GPS) RWY 1, Orig, CANCELED

Sutton, WV, Braxton County, RNAV (GPS) RWY 20, Amdt 1

Kemmerer, WY, Kemmerer Muni, RNAV (GPS) RWY 16, Amdt 2

Kemmerer, WY, Kemmerer Muni, RNAV (GPS) RWY 34, Amdt 2

Kemmerer, WY, Kemmerer Muni, Takeoff Minimums and Obstacle DP, Amdt 3

RESCINDED: On December 3, 2014 (79 FR 71639), the FAA published an Amendment in Docket No. 30986, Amdt No. 3615, to Part 97 of the Federal Aviation Regulations under section 97.23, 97.25, 97.27, 97.29, and 97.33. The following entries for Anchorage, AK, effective January 8, 2015 are hereby rescinded in their entirety:

Anchorage, AK, Ted Stevens Anchorage Intl, ILS OR LOC/DME RWY 7L, ILS RWY 7L (SA CAT I), ILS RWY 7L (SA CAT II), Amdt 4

Anchorage, AK, Ted Stevens Anchorage Intl, ILS OR LOC/DME RWY 7R, ILS RWY 7R (SA CAT I), ILS RWY 7R (CAT II), ILS RWY 7R (CAT III), Amdt 4

Lafayette, LA, Lafayette Rgnl, RNAV (GPS) RWY 29, Orig-B

New Roads, LA, False River Rgnl, LOC RWY 36, Amdt 1A

New Roads, LA, False River Rgnl, NDB RWY 36, Amdt 2A

New Roads, LA, False River Rgnl, RNAV (GPS) RWY 18, Orig-A

New Roads, LA, False River Rgnl, RNAV (GPS) RWY 36, Orig-A

New Roads, LA, False River Rgnl, VOR/DME-A, Amdt 4A

RESCINDED: On December 3, 2014 (79 FR 71652), the FAA published an Amendment in Docket No. 30988, Amdt No. 3617, to Part 97 of the Federal Aviation Regulations under section 97.23, 97.29, and 97.33. The following entries for Fairbanks, AK, effective January 8, 2015 are hereby rescinded in their entirety:

Fairbanks, AK, Fairbanks Intl, ILS OR LOC RWY 2L, ILS RWY 2L (SA CAT I), ILS RWY 2L (CAT II), ILS RWY 2L (CAT III), Amdt 10

Fairbanks, AK, Fairbanks Intl, ILS OR LOC RWY 20R, ILS RWY 20R (SA CAT I), ILS RWY 20R (SA CAT II), Amdt 25

Fairbanks, AK, Fairbanks Intl, RNAV (GPS) RWY 2R, Amdt 1

Fairbanks, AK, Fairbanks Intl, RNAV (GPS) RWY 20L, Amdt 1

Fairbanks, AK, Fairbanks Intl, RNAV (GPS) Y RWY 2L, Amdt 1

Fairbanks, AK, Fairbanks Intl, Takeoff Minimums and Obstacle DP, Amdt 6

Fairbanks, AK, Fairbanks Intl, VOR/DME OR TACAN RWY 20R, Amdt 1

Gonzales, LA, Louisiana Rgnl, RNAV (GPS) RWY 17, Amdt 1B

Gonzales, LA, Louisiana Rgnl, VOR/DME-A, Amdt 2A

[FR Doc. 2014-30844 Filed 1-14-15; 8:45 am]

BILLING CODE 4910-13-P